DEPARTMENT OF DEFENSE

Office of the Secretary

Industry Information Day; Amendment

AGENCY: DoD Chief Information Officer, Department of Defense (DoD).

ACTION: Notice of meeting; extension of period for public to submit questions prior to meeting.

SUMMARY: DoD is extending the period for organizations to submit questions prior to the public “Industry Information Day” where DoD will present a briefing, and receive and address industry feedback on the implementation of Defense Federal Acquisition Regulation Supplement (DFARS) Case 2013-D018, “Network Penetration Reporting and Contracting for Cloud Services.” The period for organizations to submit questions is extended until Friday, June 2, 2017.

DATES: The public meeting will be held on June 23, 2017, from 9:00 a.m. to 1:00 p.m., EDT. Registration to attend this meeting must be received by Monday, June 12, 2017.

ADDRESSES: The public meeting will be held at the Mark Center Auditorium, 4800 Mark Center Drive, Alexandria, VA 22350-3603. The auditorium is located on level B-1 of the building.

FOR FURTHER INFORMATION CONTACT: Ms. Vicki Michetti, at (703)604-3167.

SUPPLEMENTARY INFORMATION:

Background

On April 5, 2017 (82 FR 16577), DoD published a notice of meeting in the Federal Register to announce that DoD is hosting an “Industry Information Day” to present a briefing, and receive and address industry feedback on the implementation of Defense Federal Acquisition Regulation Supplement (DFARS) Case 2013-D018, “Network Penetration Reporting and Contracting for Cloud Services.”

The period for organizations to submit questions prior to DoD hosting an “Industry Information Day” is extended from May 1, 2017 to June 2, 2017, to provide additional time for parties to request information on the implementation of DFARS Case 2013-D018, “Network Penetration Reporting and Contracting for Cloud Services.” Questions should be sent by email to OSD.DIBCSIAEvents@mail.mil with the subject line of the email stating, “Industry Information Day.”

Dated: April 25, 2017.
Aaron Siegel,
Alternate OSD Federal Register Liaison Officer, Department of Defense.

[FR Doc. 2017-08589 Filed 4-27-17; 8:45 am]

BILLING CODE 5001-06-P